DEPARTMENT OF COMMERCE

National Oceanic and Atmospheric Administration

[I.D. 091206A]

Endangered Species; File No. 1589

AGENCY: National Marine Fisheries Service (NMFS), National Oceanic and Atmospheric Administration (NOAA), Commerce.

ACTION: Notice; receipt of application.

SUMMARY: Notice is hereby given that The Riverbanks Zoo and Garden, 500 Wildlife Parkway, P.O. Box 1060, Columbia, SC 29202-1060 [Charles Scott Pfaff, Responsible Party] has applied in due form for a permit to take shortnose sturgeon (Acipenser brevirostrum) for purposes of enhancement.

DATES: Written, telefaxed, or e-mail comments must be received on or before October 20, 2006.

ADDRESSES: The application and related documents are available for review upon written request or by appointment in the following office(s):

Permits, Conservation and Education Division, Office of Protected Resources, NMFS, 1315 East-West Highway, Room 13705, Silver Spring, MD 20910; phone (301) 713-2289; fax (301) 427-2521; and

Southeast Region, NMFS, 263 13th Avenue South, St. Petersburg, FL 33701; phone (727) 824-5312; fax (727) 824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1589.

FOR FURTHER INFORMATION CONTACT: Jennifer Skidmore or Kate Swails, (301) 713-2289.

SUPPLEMENTARY INFORMATION: The subject permit is requested under the authority of the Endangered Species Act of 1973, as amended (ESA; 16 U.S.C. 1531 et seq.) and the regulations governing the taking, importing, and exporting of endangered and threatened species (50 CFR 222-226).

The Riverbanks Zoo and Garden proposes to obtain and maintain a total of eight captive-bred, non-releaseable adult shortnose sturgeon from the South Carolina Department of Natural Resources. This sturgeon display would be used to increase public awareness of the shortnose sturgeon and its status. The proposed project would educate the public on shortnose sturgeon life history and the reasons for the species decline. The proposed project to display endangered cultured shortnose sturgeon responds directly to a recommendation from the NMFS recovery plan outline for this species. The permit is requested for a duration of 5 years.

Dated: September 14, 2006.
P. Michael Payne,
Chief, Permits, Conservation and Education Division, Office of Protected Resources, National Marine Fisheries Service.

[FR Doc. 06-7802 Filed 9-19-06; 8:45 am]

BILLING CODE 3510-22-S